SOCIAL SECURITY ADMINISTRATION

The Ticket to Work and Work Incentives Advisory Panel Meeting

AGENCY: Social Security Administration (SSA).

ACTION: Notice of meeting.

DATES: May 22, 2003, 9 a.m.-5 p.m., May 23, 2003, 9 a.m.-5 p.m.

ADDRESSES: Omni Shoreham Hotel, 2500 Calvert Street, NW., Washington, DC 20008, Phone: (202) 234-0700.

SUPPLEMENTARY INFORMATION: Type of meeting: This is an Employment Network (EN) Summit open to the public. The public is invited to participate by coming to the address listed above. Public comment will not be taken during this meeting. The public is invited to submit comments in writing on the implementation of the Ticket to Work and Work Incentives Improvement Act (TWWIIA) of 1999 at any time.

Purpose: In accordance with section 10(a)(2) of the Federal Advisory Committee Act, SSA announces a meeting of the Ticket to Work and Work Incentives Advisory Panel (the Panel).

Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the meeting. The purpose of this meeting is to assemble content experts to share solutions developed by ENs at this early stage of implementation and, where appropriate, to create a comprehensive set of recommendations for statutory or regulatory changes related to current and prospective ENs participating in the Ticket to Work Program.

The Panel will meet in person commencing on Thursday, May 22, 2003 from 9 a.m. to 5 p.m. and Friday, May 23, 2003 from 9 a.m. to 5 p.m.

Agenda

The full agenda for the meeting will be posted on the Internet at http://www.ssa.gov/work/panel at least one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 400 Virginia Avenue, SW., Suite 700, Washington, DC 20024.

• Telephone contact with Kristen Breland at (202) 358-6423.

• Fax at (202) 358-6440.

• E-mail to TWWIIAPanel@ssa.gov.

Dated: April 22, 2003.
Carol Brenner,
Designated Federal Officer.

[FR Doc. 03-10429 Filed 4-28-03; 8:45 am]

BILLING CODE 4191-02-P